DEPARTMENT OF THE INTERIOR

Bureau of Land Management

[WY-920-1320-EL, WYW178270]

Coal Exploration License, Wyoming

AGENCY: Bureau of Land Management, Interior.

ACTION: Notice of invitation for coal exploration license.

SUMMARY: Pursuant to section 2(b) of the Mineral Leasing Act of 1920, as amended by section 4 of the Federal Coal Leasing Amendments Act of 1976, 90 Stat. 1083, 30 U.S.C. 201(b), and to the regulations adopted as 43 CFR 3410, all interested parties are hereby invited to participate with Bridger Coal Company on a pro rata cost sharing basis in its program for the exploration of coal deposits owned by the United States of America in the following-described lands in Sweetwater County, Wyoming:

T. 20 N., R. 100 W., 6th P.M., Wyoming

Sec. 12: W½.

Containing 320.00 acres, more or less.

The purpose of the exploration program is to obtain structural and quality information of the coal. The proposed exploration program is fully described and will be conducted pursuant to an exploration plan to be approved by the Bureau of Land Management.

DATES: Any party electing to participate in this exploration program must send written notice to the Bridger Coal Company and the Bureau of Land Management, as provided in the ADDRESSES section below, which must be received within 30 days after publication of this Notice of Invitation in the Federal Register.

ADDRESSES: Copies of the exploration plan (serialized under number WYW178270) are available for review during normal business hours in the following offices: Bureau of Land Management, Wyoming State Office, 5353 Yellowstone Road, P.O. Box 1828, Cheyenne, Wyoming 82003; and Bureau of Land Management, Rock Springs Field Office, 280 Highway 191 North, Rock Springs, Wyoming 82901.

The written notice should be sent to the following addresses: Bridger Coal Company, c/o Interwest Mining Company, Attn: Scott M. Child, 1407 West North Temple, Suite 310, Salt Lake City, Utah 84116, and the Bureau of Land Management, Wyoming State Office, Branch of Solid Minerals, Attn: Mavis Love, P.O. Box 1828, Cheyenne, Wyoming 82003.

SUPPLEMENTARY INFORMATION: All of the coal in the above-described land consists of unleased Federal coal within the Green River/Hams Fork Region. The purpose of the exploration program is to obtain coal quantity, quality and seam structure information for the D5, D4, D3, D2 and D1 coal seams. This notice of invitation will be published in the Rock Springs Daily Rocket-Miner once each week for two consecutive weeks beginning the week of June 1, 2009, and once in the Federal Register.

The foregoing is published in the Federal Register pursuant to 43 CFR 3410.2-1(c)(1).

Larry Claypool,
Deputy State Director, Minerals and Lands.

[FR Doc. E9-18084 Filed 7-28-09; 8:45 am]

BILLING CODE 4310-22-P